DEPARTMENT OF DEFENSE

Office of the Secretary

[Docket ID: DoD-2020-OS-0027]

Privacy Act of 1974; System of Records

AGENCY: Office of the Secretary, Department of Defense (DoD).

ACTION: Rescindment of a System of Records Notice (SORN).

SUMMARY: The Office of the Secretary of Defense (OSD) is rescinding a System of Records titled, the Department of Defense Education Activity (DoDEA) Summer Workshop Application (SWA), DoDEA 28. No DoDEA SWA records were ever created by the system.

DATES: This System of Records rescindment is effective upon publication. The DoDEA SWA system was decommissioned on August 10, 2015. The records retention schedule for these records was five years; however, no records were ever created.

FOR FURTHER INFORMATION CONTACT: Ms. Luz D. Ortiz, Chief, Records, Privacy and Declassification Division (RPDD), 1155 Pentagon, Washington, DC 20311-1155 or by phone at (571) 372-0478.

SUPPLEMENTARY INFORMATION: This System of Records was intended to assist DoDEA personnel with registering for professional development sessions which were planned to be provided over the summer months. However, the summer professional development sessions were cancelled prior to opening them up for registration. As such, no records were ever created by the system and thus this SORN can be deleted.

The OSD notices for Systems of Records subject to the Privacy Act of 1974 (5 U.S.C. 552a), as amended, have been published in the Federal Register and are available from the address in FOR FURTHER INFORMATION CONTACT or at the Defense Privacy, Civil Liberties and Transparency Division website at https://dpcld.defense.gov.

The proposed systems reports, as required by the Privacy Act of 1974, as amended, were submitted on December 6, 2019, to the House Committee on Oversight and Reform, the Senate Committee on Homeland Security and Governmental Affairs, and the Office of Management and Budget (OMB) pursuant to Section 6 of OMB Circular No. A-108, “Federal Agency Responsibilities for Review, Reporting, and Publication under the Privacy Act,” revised December 23, 2016 (December 23, 2016, 81 FR 94424).

SYSTEM NAME AND NUMBER:

Department of Defense Education Activity Summer Workshop Application, DoDEA 28.

HISTORY:

May 18, 2011, 76 FR 28757.

Dated: February 24, 2020.
Aaron T. Siegel,
Alternate OSD Federal Register Liaison Officer, Department of Defense.

[FR Doc. 2020-03953 Filed 2-26-20; 8:45 am]

BILLING CODE 5001-06-P